DEPARTMENT OF TRANSPORTATION

Federal Aviation Administration

14 CFR Part 39

[Docket No. FAA-2010-0034; Directorate Identifier 2009-NM-120-AD]

RIN 2120-AA64

Airworthiness Directives; Gulfstream Aerospace LP Model Gulfstream 100 Airplanes, and Model Astra SPX and 1125 Westwind Astra Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: Incomplete closure of the MED [main entry door] may be followed by in-flight opening of the door. As a result, the MED and the adjacent fuselage structure may be damaged during opening and landing impact. Damage to the left engine by flying debris and objects may also occur.

The proposed AD would require actions that are intended to address the unsafe condition described in the MCAI.

DATES: We must receive comments on this proposed AD by March 25, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For Gulfstream service information identified in this proposed AD, contact Gulfstream Aerospace Corporation, P.O. Box 2206, Mail Station D-25, Savannah, Georgia 31402-2206; telephone 800-810-4853; fax 912-965-3520; e-mail pubs@gulfstream.com; Internet http://www.gulfstream.com/product_support/technical_pubs/pubs/index.htm. For Honeywell service information identified in this proposed AD, contact Honeywell Aerospace, Technical Publications and Distribution, M/S 2101-201, P.O. Box 52170, Phoenix, Arizona 85072-2170; telephone 602-365-5535; fax 602-365-5577; Internet http://www.honeywell.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Mike Borfitz, Aerospace Engineer, International Branch, ANM-116, Transport Airplane Directorate, FAA, 1601 Lind Avenue, SW., Renton, Washington 98057-3356; telephone (425) 227-2677; fax (425) 227-1149.

SUPPLEMENTARY INFORMATION:

Comments Invited

We invite you to send any written relevant data, views, or arguments about this proposed AD. Send your comments to an address listed under the ADDRESSES section. Include “Docket No. FAA-2010-0034; Directorate Identifier 2009-NM-120-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On January 23, 2007, we issued AD 2007-03-05, Amendment 39-14916 (72 FR 4414, January 31, 2007). That AD required actions intended to address an unsafe condition on the products listed above.

Since we issued AD 2007-03-05, the Civil Aviation Administration of Israel (CAAI), which is the aviation authority for Israel, has issued Israeli Airworthiness Directive 31-06-11-05, dated May 27, 2009 (referred to after this as “the MCAI”), to correct an unsafe condition for the specified products. The MCAI states:

To increase pilots' awareness to the possibility of incomplete closure of the Main Entry Door (MED) by the following means:

1. Splitting the common caution light CABIN DOOR signaling both MED Improper Closure and MED Inflatable Seal Failure into two separate lights: CABIN DOOR and CABIN DOOR SEAL.

2. Converting the separated CABIN DOOR Caution light into a Warning light by changing its color to red.

Note: Aircraft Flight Manuals (AFM'S) refer to these changes as MOD G1-20052.

Incomplete closure of the MED may be followed by in-flight opening of the door. As a result, the MED and the adjacent fuselage structure may be damaged during opening and landing impact.

Damage to the left engine by flying debris and objects may also occur. Required actions include modifying the warning and caution lights panel (WACLP), changing the WACLP and MED wiring, changing the wiring harness connecting the MED to the WACLP, and ensuring the Log of Modification of the AFM includes reference to MOD G1-20052. You may obtain further information by examining the MCAI in the AD docket.

Relevant Service Information

Gulfstream has issued Service Bulletin 100-31-284, dated August 17, 2006. Honeywell has issued Service Bulletin 80-0548-31-0002, dated March 1, 2006; Service Bulletin 80-5090-31-0001, dated March 1, 2006; and Service Bulletin 80-0548-31-0001, dated April 1, 2006. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 120 products of U.S. registry.

The actions that are required by AD 2007-03-05 and retained in this proposed AD take about 1 work-hour per product, at an average labor rate of $80 per work hour. Based on these figures, the estimated cost of the currently required actions is $80 per product.

We estimate that it would take about 60 additional work-hours per product to comply with the new basic requirements of this proposed AD. Required parts would cost about $600 per product. The average labor rate is $80 per work-hour. Where the service information lists required parts costs that are covered under warranty, we have assumed that there will be no charge for these costs. As we do not control warranty coverage for affected parties, some parties may incur costs higher than estimated here. Based on these figures, we estimate the cost of the proposed AD on U.S. operators to be $648,000, or $5,400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14916 (72 FR 4414, January 31, 2007) and adding the following new AD:

Gulfstream Aerospace LP (Formerly Israel Aircraft Industries, Ltd.): Docket No. FAA-2010-0034; Directorate Identifier 2009-NM-120-AD.

Comments Due Date

(a) We must receive comments by March 25, 2010.

Affected ADs

(b) The proposed AD supersedes AD 2007-03-05, Amendment 39-14916.

Applicability

(c) This AD applies to Gulfstream Aerospace LP Model Gulfstream 100 airplanes; and Model Astra SPX and 1125 Westwind Astra airplanes; certificated in any category; all serial numbers.

Subject

(d) Air Transport Association (ATA) of America Code 31: Instruments.

Reason

(e) The mandatory continuing airworthiness information (MCAI) states:

To increase pilots' awareness to the possibility of incomplete closure of the Main Entry Door (MED) by the following means:

1. Splitting the common caution light CABIN DOOR signaling both MED Improper Closure and MED Inflatable Seal Failure into two separate lights: CABIN DOOR and CABIN DOOR SEAL.

2. Converting the separated CABIN DOOR Caution light into a Warning light by changing its color to red.

NOTE: Aircraft Flight Manuals (AFM'S) refer to these changes as MOD G1-20052.

Incomplete closure of the MED may be followed by in-flight opening of the door. As a result, the MED and the adjacent fuselage structure may be damaged during opening and landing impact.

Damage to the left engine by flying debris and objects may also occur.

Required actions include modifying the warning and caution lights panel (WACLP), changing the WACLP and MED wiring, changing the wiring harness connecting the MED to the WACLP, and ensuring the Log of Modification of the AFM includes reference to MOD G1-20052.

Restatement of Requirements of AD 2007-03-05, With No Changes:

(f) Unless already done, do the following actions. Within 10 days after February 15, 2007 (the effective date of AD 2007-03-05), amend Section IV, Normal Procedures, of the following Gulfstream airplane flight manuals (AFMs): Model 1125 Astra, 25W-1001-1; Model Astra SPX, SPX-1001-1; and Model G100, G100-1001-1; as applicable; to include the following statement. Insertion of copies of this AD at the appropriate places of the AFMs is acceptable.

“1. BEFORE ENGINE START:

(PRE and POST Mod 20052/Gulfstream Service Bulletin 100-31-284):

CABIN DOOR—CLOSED (Physically verify door latch handle pin is fully engaged in the handle lock)

2. BEFORE TAXIING:

Change the CABIN DOOR procedure as follows (POST Mod 20052/Gulfstream Service Bulletin 100-31-284):

Check CABIN DOOR light—OUT

3. BEFORE TAKE-OFF:

Insert between the POSITION lights switch and the THRUST LEVERS procedures:

(PRE Mod 20052/Gulfstream Service Bulletin 100-31-284):

Check CABIN DOOR light—OUT (50% N1 may be required)

(POST Mod 20052/Gulfstream Service Bulletin 100-31-284):

Check CABIN DOOR light—OUT

CABIN DOOR SEAL light—OUT (50% N1 may be required)”

Note 1: Mod 20052 is equivalent to Gulfstream Service Bulletin 100-31-284, dated August 17, 2006.

Note 2: This AD may be accomplished by a holder of a Private Pilot's License.

New Requirements of This AD

Actions and Compliance

(g) Unless already done, for all airplanes except airplane serial number 158, do the following actions.

(1) Within 250 flight hours after the effective date of this AD: Modify the WACLP in accordance with the Accomplishment Instructions of the applicable service bulletin identified in Table 1 of this AD.

Table 1—Modification Service Information
Honeywell Service Bulletin— | Dated—
80-0548-31-0001 | April 1, 2006.
80-0548-31-0002 | March 1, 2006.
80-5090-31-0001 | March 1, 2006.

(2) Within 250 flight hours after the effective date of this AD: Change the WACLP and MED wiring in accordance with the Accomplishment Instructions of Gulfstream Service Bulletin 100-31-284, dated August 17, 2006.

(3) Within 250 flight hours after the effective date of this AD: Change the wiring harness connecting the MED to the WACLP in accordance with the Accomplishment Instructions of Gulfstream Service Bulletin 100-31-284, dated August 17, 2006.

(4) Within 250 flight hours after the effective date of this AD: Verify that the Log of Modification of the relevant airplane flight manual (AFM) includes reference to MOD G1-20052, and, if no reference is found, revise the Log of Modification of the AFM to include reference to the modification.

(5) Doing the modifications in paragraphs (g)(1), (g)(2), (g)(3), and (g)(4) of this AD terminates the requirements of paragraph (f) of this AD, and after the modifications have been done, the AFM limitation required by paragraph (f) of this AD may be removed from the AFM.

FAA AD Differences

Note 3: This AD differs from the MCAI and/or service information as follows: Paragraph (g)(5) of this AD mandates a terminating action. However, Israeli AD 31-06-11-05, dated May 27, 2009, does not explicitly mandate a terminating action. This difference has been coordinated with the Civil Aviation Authority of Israel.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Mike Borfitz, Aerospace Engineer, International Branch, ANM-116, Transport Airplane Directorate, FAA, 1601 Lind Avenue SW., Renton, Washington 98057-3356; telephone (425) 227-2677; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Israeli Airworthiness Directive 31-06-11-05, dated May 27, 2009, and the service information identified in Table 2 of this AD for related information.

Table 2—Service Information
Service Information | Date
Gulfstream Service Bulletin 100-31-284 | August 17, 2006.
Honeywell Service Bulletin 80-0548-31-0001 | April 1, 2006.
Honeywell Service Bulletin 80-0548-31-0002 | March 1, 2006.
Honeywell Service Bulletin 80-5090-31-0001 | March 1, 2006.

Issued in Renton, Washington, on January 28, 2010.
Ali Bahrami,
Manager, Transport Airplane Directorate, Aircraft Certification Service.

[FR Doc. 2010-2686 Filed 2-5-10; 8:45 am]

BILLING CODE 4910-13-P